SECURITIES AND EXCHANGE COMMISSION

[OMB Control No. 3235-0109]

Proposed Collection; Comment Request; Extension: Rule 12d1-3

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Rule 12d1-3 (17 CFR 240.12d1-3) of the Securities Exchange Act of 1934 (“Exchange Act”) requires a certification that a security has been approved by an exchange for listing and registration pursuant to Section 12(d) of the Exchange Act (15 U.S.C. 78l(d)) to be filed with the Commission. We estimate that Rule 12d1-3 takes approximately 0.5 hours per response to provide the information required under Rule12d1-3 and is filed by an average of 709 respondents annually with an average of 1,066 responses per year (calculated for the period 2022 through 2024). This is an average of 1.5 responses per respondent per year. We further estimate that 100% of the collection of information is carried internally by the respondent. Thus, we estimate the total annual reporting burden to be 533 hours (0.5 hours per response × 1,066 responses). We estimate that there is no cost associated with this information collection because 100% of the burden is carried internally by the respondent.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by September 22, 2025. There will be a second opportunity to comment on this SEC request following the Federal Register publishing a 30-Day Submission Notice.

Dated: July 17, 2025.
Sherry R. Haywood,
Assistant Secretary.

[FR Doc. 2025-13717 Filed 7-21-25; 8:45 am]

BILLING CODE 8011-01-P